FEDERAL MINE SAFETY AND HEALTH REVIEW COMMISSION

Sunshine Act Meetings

TIME AND DATE: 10 a.m., Tuesday, May 6, 2025.

PLACE: The Richard V. Backley Hearing Room, Room 511, 1331 Pennsylvania Avenue NW, Suite 504 North, Washington, DC 20004 (enter from F Street entrance).

STATUS: Open.

MATTERS TO BE CONSIDERED: The Commission will hear oral argument in the matter Secretary of Labor v. Canyon Fuel Company, LLC, Docket No. WEST 2021-0229, et al. (Issues include: (1) whether the Judge erred in finding that the operator had violated 30 CFR 50.10(b), that the violation was significant and substantial and caused by unwarrantable failure; (2) whether the Judge erred in finding certain miners individually liable under 30 U.S.C. 820(c) for the operator's violation of § 50.10(b); (3) whether the Judge erred in finding that the operator violated 30 CFR 75.202(a); (4) whether the Judge erred in holding that Order No. 8541891 was not duplicative of Citation No. 8541894).

Any person attending this meeting who requires special accessibility features and/or auxiliary aids, such as sign language interpreters, must inform the Commission in advance of those needs. Subject to 29 CFR 2706.150(a)(3) and 2706.160(d).

CONTACT PERSON FOR MORE INFORMATION: Emogene Johnson (202) 434-9935/(202) 708-9300 for TDD Relay/1-800-877-8339 for toll free.

Phone Number for Listening to Meeting: 1-(866) 236-7472. Passcode: 678-100.

(Authority: 5 U.S.C. 552b)

Dated: April 9, 2025.
Rory P. Smith,
Attorney-Advisor.

[FR Doc. 2025-06314 Filed 4-9-25; 4:15 pm]

BILLING CODE 6735-01-P